DEPARTMENT OF ENERGY

Notice of Availability of Draft Section 3116 Determination for Salt Waste Disposal at the Savannah River Site; Extension of Comment Period

AGENCY: Office of Environmental Management, Department of Energy.

ACTION: Notice of availability; extension of comment period.

SUMMARY: On April 1, 2005, the Department of Energy (DOE) published in the Federal Register a notice of availability of a draft Section 3116 determination for the disposal of separated, solidified, low-activity salt waste at the Savannah River Site (SRS) near Aiken, South Carolina. That notice set a deadline for public comments of May 16, 2005. On April 8, 2005, DOE published a correction to the April 1 notice, and extended the deadline for public comments to May 20, 2005. DOE has since received and is hereby granting a request for a further extension. The new deadline for submitting public comments on the draft Section 3116 determination is Tuesday, May 31, 2005. Comments received after that date will be considered to the extent practicable.

DATES: Comments must be received on or before May 31, 2005.

ADDRESSES: Written comments should be addressed to: Mr. Randall Kaltreider, U.S. Department of Energy, Office of Environmental Management, EM-20, 1000 Independence Avenue, SW., Washington, DC 20585. Alternatively, comments can be filed electronically by e-mail to saltwastedetermination@hq.doe.gov, or by Fax at (202) 586-4314.

FOR FURTHER INFORMATION CONTACT: Matthew Duchesne at (202) 586-6540.

Issued in Washington, DC, on May 18, 2005.
Charles E. Anderson,
Principal Deputy Assistant Secretary for Environmental Management.

[FR Doc. 05-10411 Filed 5-24-05; 8:45 am]

BILLING CODE 6450-01-P